DEPARTMENT OF AGRICULTURE

Food and Nutrition Service

Agency Information Collection Activities: Proposed collection; Comment Request—Supplemental Nutrition Assistance Program (SNAP), Store Applications, Forms FNS-252, FNS-252-E, FNS-252-FE, FNS-252-R, FNS-252-2 and FNS-252-C

AGENCY: Food and Nutrition Service (FNS), USDA.

ACTION: Notice.

SUMMARY: In accordance with the Paperwork Reduction Act of 1995, this notice invites the general public and other public agencies to comment on the proposed collection. This is a revision of a currently approved collection in the Supplemental Nutrition Assistance Program and concerns Retail Store Applications (Forms FNS-252; FNS-252-E; FNS-252-R; FNS-252-2; and FNS-252-C).

DATES: Written comments must be received on or before May 5, 2014.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical or other technological collection techniques or other forms of information technology.

Comments may be sent to: Shelly Pierce, Chief, Retailer Administration Branch, Supplemental Nutrition Assistance Program, Retailer Policy and Management Division, Food and Nutrition Service, U.S. Department of Agriculture, 3101 Park Center Drive, Room 438, Alexandria, VA 22302. Comments may be faxed to the attention of Ms. Pierce at (703) 305-1863 or via email to: RPMDHQ-WEB@fns.usda.gov. Comments will also be accepted through the Federal eRulemaking Portal. Go to http://www.regulations.gov, and follow the online instructions for submitting comments electronically.

All written comments will be open for public inspection at the FNS office located at 3101 Park Center Drive, Room 438, Alexandria, Virginia 22302, during regular business hours (8:30 a.m. to 5 p.m. Monday through Friday).

All responses to this notice will be summarized and included in the request for Office of Management and Budget approval. All comments will be a matter of public record.

FOR FURTHER INFORMATION CONTACT: Requests for additional information or copies of this information collection should be directed to Shelly Pierce at RPMDHQ-WEB@fns.usda.gov.

SUPPLEMENTARY INFORMATION: Title: Supplemental Nutrition Assistance Program (SNAP)—Store Applications.

Form Number: FNS-252; 252-E; 252-FE; 252-R; 252-2; and 252-C.

OMB Number: 0584-0008.

Expiration Date: July 31, 2014.

Type of Request: Revision of a currently approved collection of information.

Abstract: Section 9(a) of the Food and Nutrition Act of 2008, as amended, (the Act) (7 U.S.C. 2011 et. seq.) requires that FNS determine the eligibility of retail food stores and certain food service organizations to accept SNAP benefits and to monitor them for compliance and continued eligibility and to ensure program integrity.

Part of FNS' responsibility is to accept applications from retail food stores that wish to participate in SNAP, review the applications in order to determine whether applicants meet eligibility requirements, make determinations whether to grant or deny authorization to accept SNAP benefits and to ensure program integrity. There are four forms designed for that purpose and approved under the Office of Management and Budget (OMB) clearance number 0584-0008—the Supplemental Nutrition Assistance Program Application for Stores, Form FNS-252 (English and Spanish) and FNS-252-E (paper and online version respectively); the Meal Service Application, Form FNS-252-2; and the Corporate Supplemental Application, Form FNS-252-C used for individual (chain) stores under a corporation.

FNS is responsible for reviewing retail food store applications at least once every five years to ensure that each firm is under the same ownership and continues to meet eligibility guidelines. In order to accomplish this regulatory requirement, FNS collects information from retail food stores using the Supplemental Nutrition Assistance Program Application for Stores—Reauthorization, Form FNS-252-R.

During authorization or reauthorization, FNS may conduct an on-site store visit of the firm. The store visit of the firm helps FNS confirm that the information provided on the application is correct. An FNS representative or store visit contractor obtains permission to fill in the store visit checklist, photograph the store and asks the store owner or manager about the continued ownership of the store.

Currently, individual retail food stores and wholesale food concerns, along with farmers' markets and produce stands complete and submit forms FNS-252 and FNS-252-E. A farmers' market is defined as a multi-stall market at which farmer-producers sell agricultural products directly to the general public at a central or fixed location. FNS has received comments from various stakeholders including farmers and farmer's market advocates that the application title; retail food store questions; instructions and terminology do not address their business process and practices; and may be confusing to this unique group of respondents.

In order to reduce confusion and address any barriers to program participation respondents may have, FNS is creating a new online application specifically for farmers' markets, form FNS-252-FE, Supplemental Nutrition Assistance Program Farmers' Market Application. Data collected on form FNS-252-FE will be modified from the approved information collection associated with form FNS-252-E. Questions and instructions will be revised to clarify and/or re-phrase information requested, specific to the targeted group of respondents. The proposed information collection will otherwise be used in the same manner as the existing form FNS-252-E application.

Retailer and farmers' market applicants wishing to complete an online application (forms FNS-252-E and FNS-252-FE) must also first self-register for a Level 1 access account through the USDA eAuthentication system in order to initially start an online application. USDA eAuthentication facilitates the electronic authentication of an individual. FNS does not anticipate that form FNS-252-FE will increase the hourly burden estimate on respondents.

Upon OMB approval, FNS intends to incorporate form FNS-252-FE into the information collection associated with OMB No. 0584-0008, as these respondents are also considered the “normal channels of trade” for delivery of SNAP benefits to low-income households.

FNS also seeks to renew the current information collection, and minor enhancements are proposed to forms FNS-252 (English and Spanish), FNS-252-E and FNS-252-R in order to (1) clarify and/or re-word questions, instructions, and examples by making design and formatting changes to the paper and on-line application and help screens; (2) provide additional inventory stock examples; (3) revise the content and design formation of the ownership and signature titles on Form FNS-252 to be consistent with this information found on Form FNS-252-R; and (4) add a new, optional question, for retailers to provide additional information or comments to FNS. The types of additional information or comments could include any special circumstances that the retailer would want FNS to know, or who FNS should contact for questions about the application.

FNS is also revising Form FNS-252-2 in order to (1) expand the meal service type categories regarding private ownership and meal delivery service entries; (2) add a meal service location address; (3) delete “optional” and add “required” to email address; and (4) revise the Agreement and Signature section to further clarify information regarding violations also pertain to individual(s) completing the application.

FNS is amending all SNAP application forms, where applicable to (1) expand the Use and Disclosure section—routine uses to clarify the use of information for conducting computer matches; (2) to collect an email address for each owner; add a new question asking if the applicant has other stores that currently accept SNAP benefits; and (3) re-word or re-phrase the General Instruction section and on-line help screens to clarify information requested. The response time per respondent varies from 1 minute to 11.38 minutes, and we estimate the new burden, on average, to be 6.20 minutes per respondent. There is no recordkeeping burden associated with these forms.

Affected Public: Business for Profit; Retail food stores; Farmers' Markets.

Estimated Number of Respondents: The total estimated number of respondents is 151,859.

Estimated Number of Responses per Respondent: Respondents complete either 1 application form at initial authorization or 1 reauthorization application, as appropriate, for a total of 1 response each.

Estimated Total Annual Responses: 151,859.

Estimated Time per Response: 6.20 minutes (0.1056592). The estimated time response varies from 1 minute to 11.38 minutes depending on respondent group, as shown in the table below.

Table A—Reporting Estimate of Hour Burden: Summary of Burden—# 0584-0008
Affected public | Description of collection activity | Form number | Number respondents | Number responses per respondent | Total annual responses (cxd) | Hours per response | Total burden (exf)
| (a) | (b) | (c) | (d) | (e) | (f) | (g)
Retailers | Applications Received | 252-E | 29,335 | 1 | 29,355 | 0.16861 | 4,946
| E-Authentication | 252-E and FNS-252-FE | 30,347 | 1 | 30,347 | 0.13360 | 4,054
| Applications Received | 252 | 3,372 | 1 | 3,372 | 0.18638 | 628
| Applications Received | 252-FE | 1,012 | 1 | 1,012 | 0.16861 | 171
| Applications Received | 252-2 | 904 | 1 | 904 | 0.19416 | 175
| Applications Received | 252-C | 3,610 | 1 | 3,610 | 0.08350 | 301
| Store Visits |  | 40,667 | 1 | 40,667 | 0.01670 | 679
| Reauthorization | 252-R | 42,614 | 1 | 42,614 | 0.11944 | 5,090
Total Reporting Burden |  |  | 151,859 | 1 | 151,859 |  | 16,045
SUMMARY OF BURDEN FOR THIS COLLECTION |  |  | 151,859 | 1 | 151,859 | 0.1056592 | 16,045

Dated: February 26, 2014.
Jeffrey J. Tribiano,
Acting Administrator, Food and Nutrition Service.

[FR Doc. 2014-04786 Filed 3-4-14; 8:45 am]

BILLING CODE 3410-30-P